DEPARTMENT OF ENERGY

Federal Energy Regulatory Commission

Combined Notice of Filings #1

Take notice that the Commission received the following electric corporate filings:

Docket Numbers: EC15-188-000.

Applicants: St. Paul Cogeneration, LLC.

Description: Application for Authorization Under Section 203 of the Federal Power Act for Disposition of Jurisidictional Facilities and Request for Expedited Consideration of St. Paul Cogeneration, LLC.

Filed Date: 8/11/15.

Accession Number: 20150811-5209.

Comments Due: 5 p.m. ET 9/1/15.

Take notice that the Commission received the following electric rate filings:

Docket Numbers: ER13-948-007.

Applicants: Entergy Services, Inc., Entergy Arkansas, Inc., Entergy Gulf States Louisiana, L.L.C., Entergy Louisiana, LLC, Entergy Mississippi, Inc., Entergy New Orleans, Inc., Entergy Texas, Inc.

Description: Motion of Entergy Services, Inc., on behalf of the Entergy Operating Companies for temporary and limited waiver of formula rate implementation requirements, et al. for additional two-month period.

Filed Date: 8/7/15.

Accession Number: 20150807-5262.

Comments Due: 5 p.m. ET 8/28/15.

Docket Numbers: ER15-519-002.

Applicants: ISO New England Inc.

Description: Compliance filing: Errata to Revisions to ISO Tariff Related to Order No. 676-H Compliance to be effective 5/15/2015.

Filed Date: 8/12/15.

Accession Number: 20150812-5039.

Comments Due: 5 p.m. ET 9/2/15.

Docket Numbers: ER15-1705-002.

Applicants: Public Service Company of Colorado.

Description: Tariff Amendment: Indefinite Deferral of Burlington Wheeling to be effective 12/31/9998.

Filed Date: 8/12/15.

Accession Number: 20150812-5127.

Comments Due: 5 p.m. ET 9/2/15.

Docket Numbers: ER15-2189-001.

Applicants: Duke Energy Florida, LLC, Duke Energy Progress, LLC, Duke Energy Carolinas, LLC.

Description: Tariff Amendment: Suspension of Joint OATT Higher of Amendment to be effective 12/31/9998.

Filed Date: 8/12/15.

Accession Number: 20150812-5147.

Comments Due: 5 p.m. ET 9/2/15.

Docket Numbers: ER15-2417-000.

Applicants: Southern California Edison Company.

Description: Section 205(d) Rate Filing: Amended GIA and Distribution Service Agreement Wind Stream Operations, LLC to be effective10/12/2015.

Filed Date: 8/12/15.

Accession Number: 20150812-5002.

Comments Due: 5 p.m. ET 9/2/15.

Docket Numbers: ER15-2418-000.

Applicants: Pacific Gas and Electric Company.

Description: Section 205(d) Rate Filing: Modifications to BART's NITSA—Schedule 7 PSE Service to be effective 1/1/2013.

Filed Date: 8/12/15.

Accession Number: 20150812-5016.

Comments Due: 5 p.m. ET 9/2/15.

Docket Numbers: ER15-2419-000.

Applicants: Southern California Edison Company.

Description: Notice of Cancellation of Southern California Edison Company for the Edison-Riverside San Onofre Nuclear Generating Station Firm Transmission Service Agreement.

Filed Date: 8/12/15.

Accession Number: 20150812-5054.

Comments Due: 5 p.m. ET 9/2/15.

Docket Numbers: ER15-2420-000.

Applicants: Southwest Power Pool, Inc.

Description: Section 205(d) Rate Filing: 2532 EDF Renewable Development, Inc. GIA Cancellation to be effective 7/15/2015.

Filed Date: 8/12/15.

Accession Number: 20150812-5089.

Comments Due: 5 p.m. ET 9/2/15.

Docket Numbers: ER15-2421-000.

Applicants: Southwest Power Pool, Inc.

Description: Section 205(d) Rate Filing: 1889R4 Westar Energy, Inc. (Mindenmines) NITSA and NOA to be effective 8/1/2015.

Filed Date: 8/12/15.

Accession Number: 20150812-5101.

Comments Due: 5 p.m. ET 9/2/15.

Docket Numbers: ER15-2422-000.

Applicants: Portland General Electric Company.

Description: Portland General Electric Company submits Average System Cost Filing for Sales of Electric Power to the Bonneville Power Administration, FY 2016-2017.

Filed Date: 8/12/15.

Accession Number: 20150812-5109.

Comments Due: 5 p.m. ET 9/2/15.

Docket Numbers: ER15-2423-000.

Applicants: Southwest Power Pool, Inc.

Description: Section 205(d) Rate Filing: 1890R4 Westar Energy, Inc. (Moran) NITSA and NOA to be effective 8/1/2015.

Filed Date: 8/12/15.

Accession Number: 20150812-5110.

Comments Due: 5 p.m. ET 9/2/15.

Docket Numbers: ER15-2424-000.

Applicants: Southwest Power Pool, Inc.

Description: Section 205(d) Rate Filing: 1892R4 Westar Energy, Inc. (Robinson) NITSA and NOA to be effective 8/1/2015.

Filed Date: 8/12/15.

Accession Number: 20150812-5112.

Comments Due: 5 p.m. ET 9/2/15.

Take notice that the Commission received the following qualifying facility filings:

Docket Numbers: QF15-968-000.

Applicants: Cubit Power One Inc.

Description: Form 556 of Cubit Power One Inc.

Filed Date: 8/12/15.

Accession Number: 20150812-5053.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2015.
Kimberly D. Bose,
Secretary.

[FR Doc. 2015-20424 Filed 8-18-15; 8:45 am]

BILLING CODE 6717-01-P